DEPARTMENT OF COMMERCE

International Trade Administration

[A-588-804, A-412-801]

Notice of Amended Final Results of Antidumping Duty Administrative Reviews: Ball Bearings and Parts Thereof from Japan and the United Kingdom

AGENCY: Import Administration, International Trade Administration, Department of Commerce.

SUMMARY: On October 12, 2007, the Department of Commerce published in the Federal Register the final results of the administrative reviews of the antidumping duty orders on ball bearings and parts thereof from France, Germany, Italy, Japan, Singapore, and the United Kingdom. The period of review is May 1, 2005, through April 30, 2006. Based on the correction of certain ministerial errors, we have changed the margins for Mori Seiki Co., Ltd., and the Barden Corporation/Schaeffler UK for the administrative reviews of ball bearings and parts thereof from Japan and the United Kingdom, respectively.

EFFECTIVE DATE: November 16, 2007.

FOR FURTHER INFORMATION CONTACT: Richard Rimlinger, Import Administration, International Trade Administration, U.S. Department of Commerce, 14th Street and Constitution Avenue, NW, Washington, DC 20230; telephone: (202) 482-4477.

SUPPLEMENTARY INFORMATION:

Background

On October 12, 2007, the Department of Commerce (the Department) published in the Federal Register the final results of the administrative reviews of the antidumping duty orders on ball bearings and parts thereof (ball bearings) from France, Germany, Italy, Japan, Singapore, and the United Kingdom. See Ball Bearings and Parts Thereof from France, et al.: Final Results of Antidumping Duty Administrative Reviews and Rescission of Review in Part, 72 FR 58053 (October 12, 2007) (Final Results).

We received a timely allegation of ministerial error pursuant to 19 CFR § 351.224(c) from Mori Seiki Co., Ltd., that, due to an error in our calculations, we did not make comparisons between certain models sold in the United States and similar models sold by Mori Seiki Co., Ltd. in its home market. We also received a timely allegation of ministerial error pursuant to 19 CFR § 351.224(c) from the Timken US Corporation that, due to an error in our calculations, we did not designate the level of trade correctly for certain U.S. sales made by the Barden Corporation/Schaeffler UK. We agree that these are ministerial errors and are hereby amending the final results to correct these errors in accordance with 19 CFR § 351.224(e).

Amended Final Results of Reviews

As a result of the corrections of the clerical errors, the following weighted-average margins exist for exports of ball bearings by Mori Seiki Co., Ltd. and the Barden Corporation/Schaeffler UK for the period May 1, 2005, through April 30, 2006:

Company - Country | Margin (percent)
Mori Seiki Co., Ltd. - Japan | 0.19
The Barden Corporation
Schaeffler UK - United Kingdom | 0.72

Assessment Rates

The Department will determine and the U.S. Bureau of Customs and Border Protection (CBP) shall assess antidumping duties on all appropriate entries. We intend to issue appropriate assessment instructions directly to CBP 15 days after publication of these amended final results of reviews. Where the importer-/customer-specific assessment rate or amount is above de minimis, we will instruct CBP to assess duties on all entries of subject merchandise by that importer or for that customer.

We will also direct CBP to collect cash deposits of estimated antidumping duties on all appropriate entries in accordance with the procedures discussed in the Final Results and at the rates as amended by this notice. The amended deposit requirements are effective for all shipments of the subject merchandise entered, or withdrawn from warehouse, for consumption on or after the date these amended final results are published in the Federal Register (except no cash deposit will be required for Mori Seiki Co., Ltd., which has a weighted-average margin of 0.19 percent which is de minimis, i.e., less than 0.5 percent).

We are issuing and publishing these determinations and notice in accordance with sections 751(a)(1) and 777(i) of the Tariff Act of 1930, as amended, and 19 CFR § 351.224(e).

Dated: November 8, 2007.
Joseph A. Spetrini,
Deputy Assistant Secretary for Import Administration.

[FR Doc. E7-22472 Filed 11-15-07; 8:45 am]

BILLING CODE 3510-DS-S